DEPARTMENT OF LABOR

Employment and Training Administration

[TA-W-81,756]

Bay Area Newsgroup East Bay, LLC., A Wholly Owned Subsidiary of California Newspaper Partnership, 2640 Shadelands Drive and 175 Lennon Lane, Walnut Creek, California; Amended Certification Regarding Eligibility To Apply for Worker Adjustment Assistance

In accordance with Section 223 of the Trade Act of 1974, as amended (“Act”), 19 U.S.C. 2273, the Department of Labor issued a Certification of Eligibility to Apply for Worker Adjustment Assistance on August 7, 2012, applicable to workers of Bay Area News Group East Bay, LLC, a wholly owned subsidiary of California Newspapers Partnership, Walnut Creek, California. The Department's notice of determination was published in the Federal Register on August 23, 2012 (Volume 77 FR page 51066).

At the request of a company official, the Department reviewed the certification for workers of the subject firm. The workers' firm is engaged in activities related to the production of newspapers. The worker group is engaged in advertisement production, including graphic design.

New information from the company revealed that the subject firm has relocated from 2640 Shadelands Drive, Walnut Creek, California to 175 Lennon Lane, Walnut Creek, California.

The intent of the Department's certification is to include all workers of the firm who were adversely affected by a shift in production of newspapers to a foreign country. Based on these findings, the Department is amending this certification to also include the workers of 175 Lennon Lane, Walnut Creek, California.

The amended notice applicable to TA-W-81,756 is hereby issued as follows:

All workers of Bay Area News Group East Bay, LLC, a wholly owned subsidiary of California Newspapers Partnership, 2640 Shadelands Drive and 175 Lennon Lane, Walnut Creek, California, who became totally or partially separated from employment on or after June 15, 2011 through August 7, 2014, and all workers in the group threatened with total or partial separation from employment on the date of certification through two years from the date of certification, are eligible to apply for adjustment assistance under Chapter 2 of Title II of the Trade Act of 1974, as amended.

Signed in Washington, DC this 24th day of July, 2014.
Del Min Amy Chen,
Certifying Officer, Office of Trade Adjustment Assistance.

[FR Doc. 2014-18794 Filed 8-7-14; 8:45 am]

BILLING CODE 4510-FN-P